FEDERAL COMMUNICATIONS COMMISSION

47 CFR Part 73

[MB Docket No. 13-284; RM-11704; DA 13-2241]

Radio Broadcasting Services; Evart and Ludington, Michigan

AGENCY: Federal Communications Commission.

ACTION: Proposed rule.

SUMMARY: This document proposes, at the request of Synergy Lakeshore Licenses, LLC (“Synergy”), licensee of Station WMLQ(FM), Manistee, Michigan, the deletion of vacant FM Channel 274A at Evart, Michigan. The document also proposes the return of Stations WMLQ(FM), Manistee, and WMOM(FM), Pentwater, Michigan, to the channels that they previously occupied, and the modification of the construction permit for a new FM station at Ludington, Michigan. See SUPPLEMENTARY INFORMATION, supra.

DATES: Comments must be filed on or before January 13, 2014, and reply comments on or before January 28, 2014.

ADDRESSES: Secretary, Federal Communications Commission, 445 12th Street SW., Washington, DC 20554. In addition to filing comments with the FCC, interested parties should serve the petitioner as follows: David D. Oxenford, Esq., Wilkinson Barker Knauer, LLP, 2300 N Street NW., Suite 700, Washington, DC 20037-1128.

FOR FURTHER INFORMATION CONTACT: Andrew J. Rhodes or Rolanda F. Smith, Media Bureau, (202) 418-2700.

SUPPLEMENTARY INFORMATION: This is a synopsis of the Commission's Notice of Proposed Rule Making, MB Docket No.13-284, adopted November 21, 2013, and released November 22, 2013. The full text of this Commission decision is available for inspection and copying during normal business hours in the FCC's Reference Information Center at Portals II, CY-A257, 445 12th Street SW., Washington, DC 20554. This document may also be purchased from the Commission's duplicating contractors, Best Copy and Printing, Inc., 445 12th Street SW., Room CY-B402, Washington, DC 20554, telephone 1-800-378-3160 or via email www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Previously, we allotted Channel 274A at Evart, Michigan. In order to accommodate this new allotment, we modified the licenses for Station WMOM(FM), Pentwater, from Channel 274A to Channel 242A, and Station WMLQ(FM), Manistee, from Channel 249A to Channel 282A. We required the ultimate permittee of Channel 274A at Evart to reimburse Stations WMOM(FM) and WMLQ(FM) for their reasonable costs in changing channels. We also substituted Channel 249A for vacant Channel 242A at Ludington, Michigan. See 74 FR 13125, March 26, 2009.

The document solicits comment on whether vacant Channel 274A at Evart should be deleted because it went unsold in Auction 94. Interested parties should file comments expressing an interest in this vacant allotment to prevent its removal and provide an explanation as to why they did not participate in our competitive bidding process.

We issue an Order to Show Cause to the licensee of Station WMOM(FM), Pentwater, to show cause as to why its license should not be modified to specify Channel 274A in lieu of Channel 242A. We also propose to modify the construction permit for a new FM station at Ludington, Michigan, from Channel 249A to Channel 242A in order to accommodate the previously discussed channel changes. It is not necessary to issue an Order to Show Cause because the permittee has voluntarily consented to this channel change.

The document also solicits comment on whether Stations WMOM(FM) and WMLQ(FM) would seek reimbursement for application costs in implementing these channel changes in the event that we delete Channel 274A at Evart and, if so, whether these expenses are reimbursable and by whom. Conversely, if we retain Channel 274A at Evart, the document solicits comment on whether the holder of the Ludington construction permit would consent to reimburse Station WMLQ(FM) for the costs of its channel change because the Ludington permittee would not have to wait for the auctioning of the Evart allotment in order to commence operations at Ludington.

Finally, the proposed reference coordinates for Channel 274A at Penwater are 43-52-10 NL and 86-21-32 WL. With respect to Ludington, a staff engineering analysis reveals that the transmitter site specified in the construction permit for Channel 249A at Ludington is not fully spaced if we substitute Channel 242A. We have identified an alternate site for Channel 242A at Ludington that is fully spaced at reference coordinates 43-54-30 NL and 86-26-10 WL. The proposed reference coordinates for Channel 249A at Manistee are 44-14-07 NL and 86-19-05 WL.

Provisions of the Regulatory Flexibility Act of l980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Federal Communications Commission.
Nazifa Sawez,
Assistant Chief, Audio Division, Media Bureau.

For the reasons discussed in the preamble, the Federal Communications Commission proposes to amend 47 CFR Part 73 as follows:

PART 73—RADIO BROADCAST SERVICES

1. The authority citation for part 73 continues to read as follows:

Authority: 47 U.S.C. 154, 303, 334, 336 and 339.

§ 73.202 [Amended]

2. Section 73.202(b), the Table of FM Allotments under Michigan, is amended by removing, Evart, Channel 274A; by removing Chanel 249A at Ludington and by adding Channel 242A at Ludington.

[FR Doc. 2013-29293 Filed 12-6-13; 8:45 am]

BILLING CODE 6712-01-P